DEPARTMENT OF HEALTH AND HUMAN SERVICES

Centers for Disease Control and Prevention

Disease, Disability, and Injury Prevention and Control Special Emphasis Panel (SEP)—RFA-IP20-003, Network of Modeling Centers To Improve Evidence Base for Seasonal and Pandemic Influenza Prevention and Control; Amended Notice of Meeting

Notice is hereby given of a change in the meeting of the Disease, Disability, and Injury Prevention and Control Special Emphasis Panel (SEP)—RFA-IP20-003, Network of Modeling Centers to Improve Evidence Base for Seasonal and Pandemic Influenza Prevention and Control; February 25-26, 2020, 10:00 a.m.-5:00 p.m., (EDT).

Teleconference, Centers for Disease Control and Prevention, Room 1080, 8 Corporate Square Boulevard, Atlanta, GA 30329-4027 which was published in the Federal Register on November 25, 2019, Volume 84, Number 227, page 64897.

The meeting is being amended to change the meeting date to February 25, 2020. The meeting is closed to the public.

FOR FURTHER INFORMATION CONTACT: Gregory Anderson, M.S., M.P.H., Scientific Review Officer, CDC, 1600 Clifton Road NE, Mailstop US8-1, Atlanta, Georgia 30329-4027; (404) 718-8833; gca5@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-00255 Filed 1-9-20; 8:45 am]

BILLING CODE 4163-18-P